DEPARTMENT OF DEFENSE

Department of the Navy

Notice of Intent To Grant Exclusive Patent License; Ultratrace Detection, LLC

AGENCY: Department of the Navy, DoD.

ACTION: Notice.

SUMMARY: The Department of the Navy hereby gives notice of its intent to grant to Ultratrace Detection, LLC a revocable, nonassignable, exclusive license to practice the field of use of a Pre-concentrator Device for sampling, collecting, analyzing, and detecting chemicals, warfare agents, or drugs in the United States, the Government-owned inventions described in U.S. Patent Application No. 11/542,453 entitled “Micro Scale Flow Through Sorbent Plate Collection Device”, Navy Case No. 100,203 and U.S. Patent Application No. 12/406,756 entitled “Actively Cooled Vapor Preconcentrator”, Navy Case No. 99,832 and any continuations, divisionals or re-issues thereof. The inventions are jointly owned with the University of Louisville Research Foundation, Inc. and the University of Louisville will jointly execute the license.

DATES: Anyone wishing to object to the grant of this license must file written objections along with supporting evidence, if any, not later than February 17, 2010.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

Authority: 35 U.S.C. 207, 37 CFR Part 404.

Dated: January 26, 2010.
A.M. Vallandingham,
Lieutenant Commander, Judge Advocate General's Corps, U.S. Navy, Federal Register Liaison Officer.

[FR Doc. 2010-2119 Filed 2-1-10; 8:45 am]

BILLING CODE 3810-FF-P